DEPARTMENT OF ENERGY

Federal Energy Regulatory Commission

[Docket No. OR13-24-000]

Enterprise Liquids Pipeline LLC; Notice of Petition for Declaratory Order

Take notice that on May 29, 2013, pursuant to Rule 207(a)(2) or the Commission's Rules of Practices and Procedures, 18 CFR 385.207(a)(2)(2012), Enterprise Liquids Pipeline LLC filed a petition seeking a declaratory order approving a proposed proration policy for its new Aegis Pipeline project. The project is designed to provide capacity to transport purity ethane from Mont Belvieu, Texas to Napoleonville, Louisiana, with various intermediate delivery points in Texas and Louisiana.

Any person desiring to intervene or to protest in this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

The filings in the above proceedings are accessible in the Commission's eLibrary system by clicking on the appropriate link in the above list. They are also available for review in the Commission's Public Reference Room in Washington, DC. There is an eSubscription link on the Web site that enables subscribers to receive email notification when a document is added to a subscribed docket(s). For assistance with any FERC Online service, please email FERCOnlineSupport@ferc.gov. or call (866) 208-3676 (toll free). For TTY, call (202) 502-8659.

Comment Date: 5:00 p.m. Eastern time on June 17, 2013.

Dated: May 30, 2013.
Kimberly D. Bose,
Secretary.

[FR Doc. 2013-13400 Filed 6-5-13; 8:45 am]

BILLING CODE 6717-01-P